DEPARTMENT OF HEALTH AND HUMAN SERVICES

National Institutes of Health

Submission for OMB Review; Comment Request; Pilot Study Evaluating the Cross-Cultural Equivalency of the Tobacco Use Supplement to the Current Population Survey (TUS-CPS)

SUMMARY: In compliance with the requirement of section 3506(c)(2)(A) of the Paperwork Reduction Act of 1995, the National Cancer 0Institute (NCI), the National Institutes of Health (NIH) has submitted to the Office of Management and Budget (OMB) a request for review and approval of the information collection listed below. This proposed information collection was previously published in the Federal Register on March 3, 2004 (vol. 51, number 226, pp. 42420-42422) and allowed 60 days for public comment. The National Institutes of Health may not conduct or sponsor, and the respondent is not required to respond to, any information collection that has been extended, revised, or implemented on or after October 1, 1995, unless it displays a currently valid OMB number.

Proposed Collection: Title: Pilot Study Evaluating the Cross-Cultural Equivalency of the Tobacco Use Supplement to the Current Population Survey (TUS-CPS). Type of Information Collection Request: New. Need and Use of Information Collection: The primary purpose of this study is to evaluate the cross-cultural equivalency of the TUS-CPS in English, Spanish, Chinese, Korean, and Vietnamese. Each version of the questionnaire will be administered to 50 native speakers. The Chinese version will be administered to both Mandarin and Cantonese speakers. Each interview will be behavior coded to ensure that respondents are interpreting the items correctly and any translation problems are identified item by item. Twenty percent of respondents will be retrospectively debriefed on the interview to determine how well the items are understood and examine whether any translation issues exist. The findings will provide valuable information concerning the clarity of the survey period to full-scale administration.

Frequency of Response: One-time study. Affected Public: Individuals. Type of Respondents: Adults who are native Chinese (Mandarin and Cantonese), Korean, Vietnamese, and Spanish speakers. The annual reporting burden is as follows:

Data collection task | Estimated number of respondents | Estimated number of responses per respondent | Average burden hours per response | Estimate total hour burden | Estimated total annual burden hours requested
Screener | 2568 | 1 | .167 | 429 | 429
TUS-CPS | 300 | 1 | 1 | 300 | 300
Retrospective Debriefing | 60 | 1 | .50 | 30 | 30
Total | 2568 |  |  | 759 | 759

The annualized cost to respondents is estimated at $12,144. There are no Capital Costs, Operating Costs, or Maintenance Costs to report.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Dr. Deirdre Lawrence, Project Officer, National Cancer Institute, EPN 4005, 6130 Executive Boulevard, MSC 7344, Bethesda, MD 20892-7344, or call non-toll-free number (301) 594-3599, or fax your request to (301) 435-3710, or e-mail your request, including your address, to DL177n@nih.gov.

DATES: Comments Due Date: Comments regarding this information collection are best assured of having their full effect if received within 30 days of the date of this publication.

Dated: September 8, 2004.
Rachelle Ragland Greene,
NCI Project Clearance Liaison, National Institutes of Health.

[FR Doc. 04-20837 Filed 9-15-04; 8:45 am]

BILLING CODE 4140-01-M